DEPARTMENT OF JUSTICE

Antitrust Division

Notice Pursuant to the National Cooperative Research and Production Act of 1993—GE Osmonics, Inc.

Notice is hereby given that, on April 22, 2003, pursuant to section 6(a) of the National Cooperative Research and Production Act of 1993, 15 U.S.C. 4301 et seq. (“the Act”), GE Osmonics, Inc. has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to section 6(b) of the Act, the identities of the parties are GE Osmonics, Inc., Minnetonka, MN; and SmithKline Beecham Corporation, King of Prussia, PA. The nature and objectives of the venture are to develop solvent-compatible membranes and membrane systems for separations in the food, pharmaceutical, and petrochemical industries. The activities of this Joint Development project are partially funded by an award from the Advanced Technology Program, National Institute of Standards and Technology, U.S. Department of Commerce, Award # 70NANB8H4028.

Constance K. Robinson,
Director of Operations, Antitrust Division.

[FR Doc. 03-12218 Filed 5-15-03; 8:45 am]

BILLING CODE 4410-11-M